DEPARTMENT OF LABOR

Employment and Training Administration

[TA-W-81,304]

Bristol Compressors International, Inc. Including On-Site Leased Workers From Bright Services, Atwork and Express Employment Professionals, Bristol, Virginia; Amended Certification Regarding Eligibility To Apply for Worker Adjustment Assistance

In accordance with Section 223 of the Trade Act of 1974, as amended (“Act”), 19 U.S.C. 2273, the Department of Labor issued a Certification of Eligibility to Apply for Worker Adjustment Assistance on February 9, 2012, applicable to workers of Bristol Compressors International, Inc., Bristol, Virginia, including on-site leased workers from Bright Services. The Department's notice of determination was published in the Federal Register on February 28, 2012 (77 FR 12082).

At the request of the company official, the Department reviewed the certification for workers of the subject firm. The workers were engaged in the production of reciprocating compressors and heating pumps.

The company reports that workers leased from ATWork and Express Employment Professionals were employed on-site at the Bristol, Virginia location of Bristol Compressors International, Inc. The Department has determined that these workers were sufficiently under the control of the subject firm to be considered leased workers.

Based on these findings, the Department is amending this certification to include workers leased from ATWork and Express Employment Professionals working on-site at the Bristol, Virginia location of Bristol Compressors International, Inc.

The amended notice applicable to TA-W-81,304 is hereby issued as follows:

All workers of ATWork and Express Employment Professionals, reporting to Bristol Compressors International, Inc., Bristol, Virginia, who became totally or partially separated from employment on or after February 7, 2011, through February 9, 2014, and all workers in the group threatened with total or partial separation from employment on the date of certification through two years from the date of certification, are eligible to apply for adjustment assistance under Chapter 2 of Title II of the Trade Act of 1974, as amended.

Signed in Washington, DC, this 26th day of July, 2013.
Michael W. Jaffe,
Certifying Officer, Office of Trade Adjustment Assistance.

[FR Doc. 2013-19546 Filed 8-12-13; 8:45 am]

BILLING CODE 4510-FN-P